DEPARTMENT OF ENERGY

Environmental Management Site-Specific Advisory Board, Paducah

AGENCY: Department of Energy.

ACTION: Notice of Open Meeting: correction.

SUMMARY: On May 15, 2015, the Department of Energy (DOE) published a notice of open meeting announcing a meeting on June 18, 2015 of the Environmental Management Site-Specific Advisory Board, Paducah (80 FR 27941). This document makes a correction to that notice.

FOR FURTHER INFORMATION CONTACT: Jennifer Woodard, Deputy Designated Federal Officer, Department of Energy Paducah Site Office, 1017 Majestic Drive, Suite 200, Lexington, Kentucky 40513, (270) 441-6820.

Correction

In the Federal Register of May 15, 2015, in FR Doc. 2015-11788, on page 27942, please make the following correction:

In that notice under DATES, first column, second paragraph, the meeting date has been changed. The new date is June 25, 2015 instead of June 18, 2015.

Issued at Washington, DC on May 20, 2015.
LaTanya R. Butler,
Deputy Committee Management Officer.

[FR Doc. 2015-12892 Filed 5-27-15; 8:45 am]

BILLING CODE 6450-01-P